DEPARTMENT OF AGRICULTURE

Food and Nutrition Service

Agency Information Collection Activities: Proposed Collection; Comment Request—Food Stamp Program—Store Applications, Form FNS-252, Food Stamp Application for Stores

AGENCY: Food and Nutrition Service, USDA.

ACTION: Notice and request for comments.

SUMMARY: On January 2, 2003, USDA's Food and Nutrition Service (FNS) published a 60-day notice in the Federal Register, asking for comments from the public on the revised Food Stamp Program Application for Stores, Form FNS-252. We will now actively solicit feedback from approximately 30 retailers on the clarity and significance of questions on the revised application through one-on-one interactions, through small focus groups and/or online. Participants may include new applicant retailers, currently participating retailers and members from national and local retailer associations.

We will incorporate comments from retailers into the final version of the revised Form FNS-252 and then forward it to OMB for approval. We do not intend to use the revised retailer application until the new Store Tracking and Redemption Subsystem (STARS) is operational, around the fourth quarter of fiscal year 2004. We will use the current Form FNS-252 until then.

DATES: Written comments must be submitted on or before November 21, 2003.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and validity of the information to be collected; (d) ways to minimize the burden of the collection of information of those who are to respond, including the use of appropriate automated, electronic, mechanical, or other technological collection techniques or other forms of information technology. Comments may be sent to Karen Walker, Chief, Retailer Management Branch, Benefit Redemption Division, Food and Nutrition Service, U.S. Department of Agriculture, 3101 Park Center Drive, Room 404, Alexandria, VA 22302; FAX number (703) 305-1863; e-mail: BRDHQ-WEB@fns.usda.gov. All submitted comments should refer to the title of this proposal and/or the OMB approval number.

FOR FURTHER INFORMATION CONTACT: Requests for additional information should be directed to Karen Walker at (703) 305-2418 or BRDHQ-WEB@fns.usda.gov. Information requests submitted through e-mail should refer to the title of this proposal and/or the OMB approval number in the subject line.

SUPPLEMENTARY INFORMATION: Title: Food Stamp Program: Food Stamp Program Application for Stores, Form FNS-252 (Soliciting Comments from Retailers on the Revised Application).

OMB Number: 0584-0008.

Expiration Date: May 31, 2004.

Type of Request: Revision of a currently approved collection.

Abstract: Section 9 of the Food Stamp Act of 1977, as amended, (7 U.S.C. 2011-2036) requires retail food stores to submit applications to FNS for approval prior to participating in the Food Stamp Program. Recently, reengineering teams were charged with improving the current food stamp application for stores, Form FNS-252, to make it shorter, easier to understand and more customer- and computer-friendly. We believe the revised Form FNS-252 is an improvement over the current Form FNS-252 because it:

• Utilizes plain language;

• Deletes redundant questions and questions that solicit information that can be collected from other FNS sources such as store visits and databases;

• Improves the accuracy of submitted information through better targeted questions; and

• Supports the Department's efforts to comply with the E-GOV requirements by making the form compatible with current technology. The revised retailer application has been developed in a format that can be scanned and easily converted into an online document.

As part of the reengineering team's efforts, we received feedback on the revised Form FNS-252 from staff from our regional and field offices. Additionally, we published a 60-day notice in the Federal Register on January 2, 2003, asking for comments from the public on the revised retailer application. We are now seeking additional input from retailers. Through this feedback, we will gain a more comprehensive evaluation of the revised Form FNS-252 and identify areas that may need to be improved further.

We will solicit comments from approximately 30 retailers on the revised retailer application. We will solicit comments through one-on-one sessions with retailers, or by convening small groups of retailers at the conclusion of training sessions on the Food Stamp Program or at other meetings of retailers. If we convene small groups of retailers, retailers will be asked to give their individual opinions and impressions of the form. We will not elicit a group consensus during this process. We may also ask individual retailers to complete an application to verify that our burden estimates are accurate for the time it takes to complete the form. Headquarters or field office staff who conduct food stamp training sessions will carry out these comment request sessions. The sessions will take place at more than one location throughout the country. The purpose of the discussions is to get feedback on the form's content; readability; overall form design; the clarity of the form's instructions; and to discuss the ease or difficulty in completing the revised application. Finally, we may also solicit comments online from participating retailers in addition to soliciting comments in-person as discussed above.

Burden Estimates: When soliciting comments, we estimate that we will spend at least 40 minutes, or .66 hour, per retailer (20 minutes interacting with the retailer and 20 minutes having the retailer complete the application, if applicable). Comments will be solicited through one-on-one interactions and through small focus groups. Participants may include new applicant retailers, currently participating retailers and representatives from national and local retailer associations. We will consider the comments we receive before making final changes to the revised Form FNS-252. If the results of the evaluation are positive, we will implement the revised Form FNS-252 when the new STARS system is operational some time during the fourth quarter of fiscal year 2004.

The estimated burden computation is provided below:

Affected Public: Currently participating retailers, new applicant retailers and members of national and local retailer associations will participate in comment request sessions and provide feedback on the redesigned form.

Estimated Number of Respondents: 30.

Estimated Annual Number of Responses Per Respondent: 1.

Estimated Total Annual Responses: 30.

Estimated Hours Per Respondent: .66.

Estimate of Burden: 19.8.

Estimated Total Annual Burden: 19.8.

Dated: September 10, 2003.
Roberto Salazar,
Administrator, Food and Nutrition Service.

[FR Doc. 03-24098 Filed 9-18-03; 12:01 pm]

BILLING CODE 3410-30-P